DEPARTMENT OF HEALTH AND HUMAN SERVICES

Centers for Medicare & Medicaid Services

[Document Identifier: CMS-2744 and CMS-10905]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by June 30, 2025.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Reinstatement with change of a previously approved collection; Title of Information Collection: End Stage Renal Disease Annual Facility Survey Form; Use: The Program Management and Medical Information System (PMMIS) collects provider-specific and aggregate patient population data on ESRD beneficiaries treated by dialysis and transplant providers. Each facility certification/survey record represents one provider. The CMS-2744 captures certification and other information about ESRD facilities approved by Medicare to provide kidney dialysis and transplant services. Additionally, the CMS-2744 captures activities performed during the calendar year, as well as aggregate year-end population counts for both Medicare beneficiaries and non-Medicare patients. The data elements include basic provider information such as provider certification and type of ownership; aggregated dialysis patient data such as the number of patients, number of deaths, and number of patients receiving different types of dialysis; dialysis treatment data; kidney transplant data such as number of transplants, type of transplants, and number of patients awaiting transplants; and the total number of each method used to obtain kidneys for transplants. The CMS-2744 collects data on hemodialysis patients dialyzing, vocational rehabilitation, and staffing. The accuracy of the Facility Survey depends on complete reporting by each facility.

Modifications to the CMS-2744 are (a) collection of days the dialysis facility is open; (b) shifts dialysis is provided; (c) adding “failed” to “return after transplant” for clarity; (d) removing questions related to vocational rehabilitation; and (e) aligning instructions with revisions. Form Number: CMS-2744 (OMB control number: 0938-0447); Frequency: Yearly; Affected Public: Business or other for-profit, Not-for-profit institutions; Number of Respondents: 7,726; Total Annual Responses: 7,726; Total Annual Hours: 15,452. (For policy questions regarding this collection contact Christina Goatee at 410-786-6689.)

2. Type of Information Collection Request: New collection (Request for a new OMB control number); Title of Information Collection: Service Level Data Collection for Initial Determinations and Appeals; Use: The Part C and D Reporting Requirements, as set forth in §§ 422.516(a) and 423.514(a), provide CMS with the ability to collect more granular data related to all plan activities regarding adjudicating requests for coverage and plan procedures related to making service utilization decisions. This includes collecting more timely data with greater frequency or closer in real-time.

The proposed data elements listed in the Technical Specifications document in this proposed PRA would provide key data to CMS on the utilization of benefits, enhance audit activities to ensure plans are operating in accordance with CMS guidelines, and ensure appropriate access to covered services and benefits.

CMS staff will use this information to monitor health plans and to hold them accountable for their performance. CMS users include group managers, division managers, branch managers, account managers, and researchers.

Health plans can use this information to measure and benchmark their performance. CMS receives inquiries from the industry and other interested stakeholders about beneficiary access to the items, services, and drugs, including service level data for initial determinations and appeals, and other factors pertaining to use of government funds, as well the performance of MA plans. Form Number: CMS-10905 (OMB control number: 0938-New); Frequency: Quarterly; Affected Public: Private Sector, Business or other for-profits, Not for-profits and Federal Government State, Local; Number of Respondents: 728; Number of Responses: 2,912; Total Annual Hours: 728. (For policy questions regarding this collection contact Sabrina Edmonston at 410-786-3209 or Sabrina.edmonston@cms.hhs.gov).

William N. Parham, III,
Director, Division of Information Collections and Regulatory Impacts, Office of Strategic Operations and Regulatory Affairs.

[FR Doc. 2025-09813 Filed 5-29-25; 8:45 am]

BILLING CODE 4120-01-P